DEPARTMENT OF TRANSPORTATION

Federal Aviation Administration

14 CFR Part 71

[Docket No. FAA-2013-0031; Airspace Docket No. 12-AWA-7]

Modification of Class C Airspace; Nashville International Airport; TN

AGENCY: Federal Aviation Administration (FAA), DOT.

ACTION: Final rule.

SUMMARY: This action modifies the Nashville International Airport, TN, Class C airspace area by removing a cutout from the surface area that was put in place to accommodate operations at an airport that is now permanently closed. The FAA is taking this action to ensure the safe and efficient operations at Nashville International Airport.

DATES: Effective date 0901 UTC, June 27, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

On January 30, 2013, the FAA published in the Federal Register a notice of proposed rulemaking (NPRM) to modify the Nashville International Airport, TN, Class C airspace area (78 FR 6257). Interested parties were invited to participate in this rulemaking effort by submitting written comments on the proposal. Five comments were received.

Discussion of Comments

Four commenters wrote in support of the proposal. One commenter contended that the FAA did not provide justification for increasing the size of the Class C surface area and failed to show an actual need for additional Class C airspace. The commenter asserted that retention of the cutout allows greater options for aircraft transiting the Class C airspace area.

The FAA does not agree. The sole purpose of the surface area cutout was to allow aircraft to operate freely to and from the Cornelia Fort Airpark without the need to contact air traffic control (ATC). Since that airport is now permanently closed, the cutout serves no useful purpose. The small size, location and configuration of the cutout does not provide any significant benefit to transiting aircraft. An aircraft entering the cutout (below 2,400 feet MSL) would still need to communicate with ATC prior to entering the Class C airspace area or would be faced with tight maneuvering to avoid entering the Class C. Instances have been observed where aircraft attempting to exit the cutout have inadvertently entered the Class C airspace area. Further, the cutout boundary lies less than one mile from Nashville International Airport's final approach courses to Runways 13 and 20R, inside the final approach fix (FAF), causing concern to traffic landing on the south parallels and Runway 13. Removing the cutout ensures continued safe and efficient operations at Nashville International Airport.

The Rule

This action amends Title 14 Code of Federal Regulations (14 CFR) part 71 by modifying Nashville International Airport Class C airspace, removing a cutout from the Class C surface area. The cutout was put in place to exclude the airspace within a 1.5 NM radius of the former Cornelia Fort Airpark from the Class C surface area. The sole purpose for the exclusion was to accommodate operations at the Airpark, which was located about 4 NM north northwest of Nashville International Airport. The Airpark is now permanently closed and the property sold for non-aviation uses. Since the original purpose of the exclusion no longer exists, the FAA is removing the words “. . . excluding that airspace within a 1.5-mile radius of lat. 36°12′00″ N., long. 86°42′10″ W. (in the vicinity of Cornelia Fort Airpark) . . .” from the Class C airspace description. This restores the Class C surface area to within a 5-NM radius of Nashville International Airport and enhances the safe and efficient management of aircraft operations at the airport.

In addition, a minor correction is made to update the geographic coordinates of the Nashville International Airport to reflect the current information in the FAA's aeronautical database. This change removes “lat. 36°07′31″ N., long. 86°40′35″ W.,” and inserts “lat. 36°07′28″ N., long. 86°40′42″ W.”. Except for editorial changes this rule is the same as published in the NPRM.

Class C airspace areas are published in paragraph 4000 of FAA Order 7400.9W, dated August 8, 2012 and effective September 15, 2012, which is incorporated by reference in 14 CFR 71.1. The Class C airspace area amendment in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends a portion of the terminal airspace structure at Nashville International Airport, Nashville, TN.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012 and effective September 15, 2012, is amended as follows:

Paragraph 4000 Class C Airspace.

* * * * *

ASO TN C Nashville International Airport, TN [Amended]

Nashville International Airport, TN

(Lat. 36°07′28″ N., long. 86°40′42″ W.)

Boundaries

That airspace extending upward from the surface to and including 4,600 feet MSL within a 5-mile radius of Nashville International Airport; and that airspace extending upward from 2,100 feet MSL to and including 4,600 feet MSL within a 10-mile radius of Nashville International Airport from the 018° bearing from the airport clockwise to the 198° bearing from the airport, and that airspace extending upward from 2,400 feet MSL to and including 4,600 feet MSL within a 10-mile radius of the airport from the 198° bearing from the airport clockwise to the 018° bearing from the airport.

Issued in Washington, DC, on May 1, 2013.
Ellen Crum,
Acting Manager, Airspace Policy and ATC Procedures Group.

[FR Doc. 2013-10810 Filed 5-8-13; 8:45 am]

BILLING CODE 4910-13-P